DEPARTMENT OF COMMERCE

National Oceanic and Atmospheric Administration

RIN 0648-XE91

Taking and Importing Marine Mammals; Taking Marine Mammals Incidental to Rocket Launches from Kodiak, AK

AGENCY: National Marine Fisheries Service, National Oceanic and Atmospheric Administration, Commerce.

ACTION: Notice; Issuance of a Letter of Authorization.

SUMMARY: In accordance with the Marine Mammal Protection Act (MMPA) and implementing regulations, notification is hereby given that a 1-year Letter of Authorization (LOA) has been issued to the Alaska Aerospace Development Corporation (AADC), to take Steller's sea lions (Eumetopias jubatus) and Pacific harbor seals (Phoca vitulina richardsi) incidental to rocket launches from the Kodiak Launch Complex (KLC).

DATES: Effective March 12, 2008, through March 11, 2009.

ADDRESSES: The LOA and supporting documentation are available by writing to Michael Payne, Chief, Permits, Conservation, and Education Division, Office of Protected Resources, National Marine Fisheries Service, 1315 East-West Highway, Silver Spring, MD 20910-3225, by telephoning one of the contacts listed here (see FOR FURTHER INFORMATION CONTACT), or online at: http://www.nmfs.noaa.gov/pr/permits/incidental.htm. Documents cited in this notice may be viewed, by appointment, during regular business hours, at the aforementioned address.

FOR FURTHER INFORMATION CONTACT: Howard Goldstein or Jaclyn Daly, Office of Protected Resources, NMFS, (301) 713-2289, or Brad Smith, Alaska Regional Office, NMFS, (907) 271-3023.

SUPPLEMENTARY INFORMATION:

Background

Section 101(a)(5)(A) of the MMPA (16 U.S.C. 1361 et seq.) directs the National Marine Fisheries Service (NMFS) to allow, on request, the incidental, but not intentional, taking of small numbers of marine mammals by U.S. citizens who engage in a specified activity (other than commercial fishing) within a specified geographical region if certain findings are made and regulations are issued. Under the MMPA, the term “taking” means to harass, hunt, capture, or kill or to attempt to harass, hunt, capture or kill marine mammals.

Authorization may be granted for periods up to 5 years if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat and on the availability of the species for subsistence uses, paying particular attention to rookeries, mating grounds, and areas of similar significance. The regulations must include requirements for monitoring and reporting of such taking.

Regulations governing the taking of Steller's sea lions (SSLs) and harbor seals, by harassment, incidental to rocket launches at KLC, became effective on February 27, 2006 (71 FR 4297), and remain in effect until February 28, 2011. For detailed information on this action, please refer to that document. These regulations include mitigation, monitoring, and reporting requirements for the incidental taking of marine mammals during rocket launches at KLC.

Summary of Request

NMFS received a request for an LOA pursuant to the aforementioned regulations that would re-authorize, for a period not to exceed 1 year, take of marine mammals incidental to rocket launches at KLC.

Summary of Activity and Monitoring Under the Current LOA

In compliance with the 2007 LOA, AADC submitted an annual report on the rocket launches at KLC. A summary of that report (R&M Consultants, 2008) follows.

FTG-03 Mission

Two launches were conducted at KLC between March 12, 2007, and March 11, 2008. The first was a monitored launch of a Flight Test Ground-based Interceptor-03 (FTG-03) target missile on May 25, 2007 at 06:00:00 hr ADT. Aerial surveys to document abundance of SSLs and harbor seals in the primary survey area (6-mile radius of the KLC launch pads) were flown using single-engine fixed-wing aircraft 2 days prior to (May 23), and 2 and 3 days (May 27 and 28) post launch. On May 24-26, 2007, three aerial surveys were canceled due to low ceilings and heavy fog. Poor weather conditions prevented the deployment of video and sound level monitoring equipment on the north side of Ugak Island, 4.2 miles (6.8 km) from the launch site, but a sound level meter was deployed on Narrow Cape, 0.9 miles (1.4 km) from the launch site. Sound level monitoring equipment at Narrow Cape registered noise above general ambient levels at 06:00:05 hr ADT for one minute eleven seconds. Noise levels peaked at 125.5 dBC.

No SSLs were observed at the traditional haul out sites at the north end or east side of Ugak Island during the aerial surveys conducted before and after the launch; therefore, no focused video monitoring was conducted at those sites. During the pre-launch aerial survey on May 23, 2007, 136 harbor seals were observed hauled out in the primary study area. Post launch surveys revealed 402 seals hauled out on May 27, 2007 and 224 seals on May 28, 2007. Harbor seals were counted consistently on Ugak Island, with the largest concentrations observed on the east side of Ugak Island. They were also occasionally seen at the mouth of Pasagshak Bay. Haul-out attendance within the primary survey area increased on days following the launch. Therefore, NMFS believes that harbor seal attendance at these haul-out sites was not affected negatively by this launch.

FTG-03a Mission

The second monitored launch of an Interceptor FTG-03a rocket was conducted at KLC on September 28, 2007 at 12:00:00 hr ADT. Aerial surveys to document abundance of SSLs and harbor seals were flown on all 3 days prior to, immediately after, and on 3 days post launch. Video monitoring equipment and a sound level meter were deployed on the north side of Ugak Island, 4.2 miles (6.8 km) from the launch site, and another sound level meter was deployed on Narrow cape, 0.9 miles (1.4 km) from the launch site. No SSLs were observed at the traditional haul out sites at the north end or east side of Ugak Island during the aerial surveys conducted before and after the launch. However, 2 SSLs were seen opportunistically in Pasagshak Bay prior to the monitoring surveys conducted for the launch.

Sound level monitoring equipment at Narrow Cape, which was placed in the same location as previous launches, registered noise above ambient levels at 12:00:05 hr ADT for one minute fourteen seconds, and at Ugak Island registered noise above ambient levels at 12:00:20 hr ADT for one minute thirty seconds. Noise levels peaked at 125.8 dBC for Narrow Cape and at 107.3 dBC for Ugak Island.

Since no SSLs were present at the traditional haul out sites, video monitoring for harbor seal reactions during the launch was conducted on the north side of Ugak Island. Harbor seal monitoring focused on preferred haul out sites could not be conducted due to the strong wind conditions that effected video equipment. Neither harbor seal presence or seal activity was observed during the ignition, during the peak noise levels that followed the launch, or for the remaining duration of the video monitoring (total video running time of 21 hrs 32 min). Harbor seals were observed in the largest concentrations on the east side of Ugak Island. During the pre-launch aerial surveys on September 27, 2007, 461 harbor seals were observed hauled out in the primary study area. Post launch surveys showed 0 seals hauled out on September 28, 175 seals on September 29, 686 seals on September 30, and 748 seals on October 1. Two additional pre-launch aerial surveys for monitoring purposes occurred on September 25 and 26, sighting 392 and 279 seals, respectively. Haul-out attendance increased within the primary survey area on days following the launch. Therefore, NMFS believes that harbor seal attendance at these haul-out sites was not affected negatively by this launch.

In summary, no impacts to any marine mammals were detected during the launches and no pinnipeds were observed during video monitoring. There was no evidence of injury or mortality as a result of the launches and numbers of hauled out animals were similar to or higher than pre-launch levels within 1 to 2 days of the launch.

Authorization

Accordingly, NMFS has issued an LOA to AADC authorizing takes of marine mammals incidental to rocket launches at the KLC. Issuance of this LOA is based on findings, described in the preamble to the final rule (71 FR 4297, January 26, 2006) and supported by information contained in AADC's required 2007 annual report, that the activities described under this LOA will result in the take of small numbers of marine mammals, have a negligible impact on marine mammal stocks, and will not have an unmitigable adverse impact on the availability of the affected marine mammal stocks for subsistence uses.

Dated: March 11, 2008.
James H. Lecky,
Director, Protected Resources, National Marine Fisheries Service.

[FR Doc. E8-5433 Filed 3-17-08; 8:45 am]

BILLING CODE 3510-22-S